DEPARTMENT OF THE INTERIOR

Bureau of Land Management

[AZ-910-0777-26-241A]

State of Arizona Resource Advisory Council Meeting

AGENCY: Bureau of Land Management, Interior.

ACTION: Arizona Resource Advisory Council meeting notice.

SUMMARY: This notice announces a tour and meeting of the Arizona Resource Advisory Council (RAC). On February 28, 2002, the RAC and BLM staff will tour the Ironwood Forest National Monument and Asarco Mine site outside of the Tucson Metropolitan Area and discuss resource issues facing the Monument's management. The tour will depart from the Radisson Inn (Downtown) located at 181 W. Broadway at 8 a.m., and conclude approximately at 5 p.m.

On March 1, the business meeting will also be held at the Radisson Inn and will begin at 9 a.m. and conclude at approximately 4 p.m. The agenda items to be covered include: review of the December 6, 2001 meeting minutes; BLM State Director's Update on legislation, regulations and statewide planning efforts; Updates on the BLM National Mountain Biking Strategy and 3809 Surface Management Regulations for Locatable Mineral Operations; and Presentations on the Arizona Supreme Court Ruling on State Land Grazing Leases and BLM's International Programs; Update Proposed Field Office Rangeland Resource Teams; Reports from BLM Field Office Managers; Reports by the Standards and Guidelines, Recreation and Public Relations, Wild Horse and Burro Working Groups; Reports from RAC members; and Discussion of future meetings. A public comment period will be provided at 11:30 a.m. on March 1, 2002, for any interested publics who wish to address the Council.

FOR FURTHER INFORMATION CONTACT: Deborah Stevens, Bureau of Land Management, Arizona State Office, 222 North Central Avenue, Phoenix, Arizona 85004-2203, (602) 417-9215.

Denise P. Meridith,
Arizona State Director.

[FR Doc. 02-981 Filed 1-14-02; 8:45 am]

BILLING CODE 4310-32-P